DEPARTMENT OF ENERGY

Federal Energy Regulatory Commission

[Project No. 11291-023]

Star Mill, Inc.; Notice of Termination of License by Implied Surrender

May 1, 2007.

Take notice that the following hydroelectric proceeding has been initiated by the Commission:

a. Proceeding Type: Termination of License by Implied Surrender.

b. Project No: 11291-023.

c. Date Initiated: October 18, 2006.

d. Licensee: Star Mill, Inc.

e. Name of Project: Star Milling and Electric Minor Water Power Project (Star Milling).

f. Location: On Fawn River in LaGrange County, near the town of Howe, Indiana.

g. Proceeding Initiated Pursuant to: 18 CFR 6.4.

h. FERC Contact: Diane M. Murray, Telephone: (202) 502-8838 and e-mail: diane.murray@ferc.gov.

i. Deadline for filing comments and or motions: June 1, 2007.

All documents (original and eight copies) should be filed with: Secretary, Federal Energy Regulatory Commission, 888 First Street, NE., Washington, DC 20426. Please include the project number (P-11291-023) on any comments.

j. Description of Proceeding: Because of the licensee's failure to live up to the obligations of its license, the Commission considers this inaction an implied surrender of the license. By letter dated October 18, 2006, the Commission gave the licensee notice of its intent to accept the surrender of the license for the Star Milling Project.

k. Locations of the Letter: A copy of the letter is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular proceeding.

n. Any filings must bear in all capital letters the title “COMMENTS”, “RECOMMENDATIONS FOR TERMS AND CONDITIONS”, “PROTESTS”, or “MOTIONS TO INTERVENE”, as applicable, and the Project Number of the particular proceeding to which the filing refers.

o. Agency Comments—Federal, state, and local agencies are invited to file comments on the described proceeding. If an agency does not file comments within the time specified for filing comments, it will be presumed to have no comments.

p. Comments, protests, and interventions may be filed electronically via the Internet in lieu of paper. See, 18 CFR 385.2001(a)(1)(iii) and the instructions on the Commission's Web site at http://www.ferc.gov under the “e-Filing” link.

Kimberly D. Bose,
Secretary.

[FR Doc. E7-8702 Filed 5-7-07; 8:45 am]

BILLING CODE 6717-01-P